NATIONAL AERONAUTICS AND SPACE ADMINISTRATION

Notice (00-134)

Notice of Prospective Patent License

AGENCY: National Aeronautics and Space Administration.

ACTION: Notice of Prospective Patent License.

SUMMARY: NASA hereby gives notice that Synthecon, Inc., of Houston, TX, has applied for a partially exclusive license to practice the inventions described and claimed in U.S. Patent No. 5,153,132, entitled “Three-Dimensional Co-Culture Process”; U.S. Patent No. 5,153,133, entitled “Method for Culturing Mammalian Cells in a Horizontally Rotated Bioreactor”; U.S. Patent No. 5,155,034, entitled “Three-Dimensional Cell to Tissue Assembly Process”; U.S. Patent No. 5,155,035, entitled “Method for Culturing Mammalian Cells in a Perfused Bioreactor”; U.S. Patent No. 5,308,764, entitled “Multi-Cellular Three-Dimensional Living Mammalian Tissue”; U.S. Patent No. 5,496,722, entitled “Cultured Normal Mammalian Tissue and Process”; U.S. Patent No. 5,627,021, entitled “Multi-Cellular, Three-Dimensional Living Mammalian Tissue”; U.S. Patent No. 5,846,807, entitled “Media Compositions for Three-Dimensional Mammalian Tissue Growth Under Microgravity Culture Conditions”; U.S. Patent No. 5,858,783, entitled “Production of Normal Mammalian Organ Culture Using a Medium Containing Mem-Alpha, Leibovitz L-15, Glucose Galactose Fructose”; U.S. Patent No. 5,851,816, entitled “Cultured High-Fidelity Three Dimensional Human Urogenital Tract Carcinomas and Process”; and U.S. Patent No. 6,117,674, entitled “Horizontal Rotating-Wall Vessel Propagation in Vitro Human Tissue Models.” Each of the above U.S. Patents is assigned to the United States of America as represented by the Administrator of the National Aeronautics and Space Administration. Partially exclusive license rights were also applied for in NASA's undivided interest in the U.S. Patent Application identified as NASA Case No. MSC-22859, entitled “Production of Functional Proteins: Balance of Shear Stress and Gravity,” and in pending PCT application, NASA Case No. MSC-22859 (PCT), entitled “Production of Functional Proteins: Balance of Shear Stress and Gravity,” and in foreign patents which may issue therefrom. Written objections to the prospective grant of a license should be sent to the Johnson Space Center.

DATES: Responses to this notice must be on or before January 8, 2001.

FOR FURTHER INFORMATION CONTACT: James Cate, Patent Attorney, NASA Johnson Space Center, Mail Stop HA, Houston, TX 77058-8452; telephone (281) 483-1001.

Dated: November 1, 2000.
Robert M. Stephens,
Deputy General Counsel.

[FR Doc. 00-28583 Filed 11-7-00; 8:45 am]

BILLING CODE 7510-01-U